DEPARTMENT OF TRANSPORTATION

Federal Railroad Administration

[Docket Number FRA-2008-0063]

Petition for Extension of Waiver of Compliance

Under part 211 of title 49 Code of Federal Regulations (CFR), this document provides the public notice that by letter dated March 16, 2023, Memphis Area Transit Authority (MATA) petitioned the Federal Railroad Administration (FRA) for an extension of a waiver of compliance from certain provisions of the Federal railroad safety regulations contained at 49 CFR parts 210 (Railroad Noise Emission Compliance Regulations); 215 (Railroad Freight Car Safety Standards); 218 (Railroad Operating Practices); 219 (Control of Alcohol and Drug Use); 221 (Rear End Marking Device—Passenger, Commuter and Freight Trains); 223 (Safety Glazing Standards—Locomotives, Passenger Cars and Cabooses); 225 (Railroad Accidents/Incidents: Reports Classification, and Investigations); ¹ 228 (Passenger Train Employee Hours of Service; Recordkeeping and Reporting; Sleeping Quarters); 229 (Railroad Locomotive Safety Standards); 231 (Railroad Safety Appliance Standards); 238 (Passenger Equipment Safety Standards); 239 (Passenger Train Emergency Preparedness); 240 (Qualification and Certification of Locomotive Engineers); and 242 (Qualification and Certification of Conductors). The relevant Docket Number is FRA-2008-0063.

¹ With MATA complying with the Federal Transit Administration and the Occupational Safety and Health Administration's rules pertaining to injury reporting, MATA seeks continued relief from the requirements of part 225 regarding the reporting of employee injuries.

Specifically, MATA requests to extend its relief from the above listed CFR parts, as pertaining to its vintage streetcar rapid transit operation, which includes a 1.5-mile corridor shared with both Canadian National Railway Company and Amtrak comprising 11 shared highway-rail grade crossings and one diamond at-grade rail crossing. In support of its request, MATA states that, since FRA last granted an extension of relief, by letter dated September 17, 2018,² “there have been no changes to the training and operations that affect the terms and conditions of the waiver.” MATA states that since the relief was granted in 2008, “there has not been a reportable `accident/incident' . . . on the line.”

² See https://www.regulations.gov/document/FRA-2008-0063-0012.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by June 6, 2023 will be considered by FRA before final action is taken. Comments received after that date will be considered if practicable.

Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2023-07325 Filed 4-6-23; 8:45 am]

BILLING CODE 4910-06-P